OFFICE OF NATIONAL DRUG CONTROL POLICY

Designation of Two (2) High Intensity Drug Trafficking Areas

ACTION: Notice.

SUMMARY: This notice lists two (2) new High Intensity Drug Trafficking Areas (HIDTAs) designated by the Director of National Drug Control Policy (ONDCP). The newly designated HIDTAs are the Nevada HIDTA consisting of Clark County and the North Florida HIDTA consisting of Baker, Clay, Duval, Flagler, Nassau, Putnam, St. Johns and Marion Counties. These new HIDTAs are designated pursuant to 21 U.S.C. 1706(b), to promote more effective coordination of drug control efforts. In considering whether to designate an area under this section as a high intensity drug trafficking area, the Director considered, in addition to such other criteria the Director considers to be appropriate, the extent to which: (1) The area is center of illegal drug production, manufacturing, importation, or distribution; (2) state and local law enforcement agencies have committed resources to respond to the drug trafficking problem in the area, thereby indicating a determination to respond aggressively to the problem; (3) drug-related activities in the area are having a harmful impact in other areas of the country; and (4) a significant increase in allocation of Federal resources is necessary to respond adequately to drug-related activities in the area.

This action will support local, state and Federal law enforcement officers in assessing regional drug threats, designing strategies to combat the threats, developing initiatives to implement the strategies, and evaluating the effectiveness of their coordinated efforts.

FOR FURTHER INFORMATION CONTACT: Comments and questions regarding this notice should be directed to Mr. Kurt F. Schmid, National HIDTA Director, Office of National Drug Control Policy, Executive Office of the President, Washington, DC 20503; (202) 395-6692.

SUPPLEMENTARY INFORMATION: In Fiscal Year 2000, 1242 agencies participated in 462 HIDTA-funded initiatives within the 26 previously designated HIDTA regions throughout the country. The HIDTA Programs strengthens local, state and Federal drug trafficking and money laundering task forces, bolsters drug enforcement information networks, and improves integration of law enforcement, drug treatment and drug abuse prevention programs, where appropriate.

Signed at Washington, DC this 9th day of March, 2001.
Edward H. Jurith,
Acting Director.

[FR Doc. 01-7903 Filed 3-29-01; 8:45 am]

BILLING CODE 3180-02-M